POSTAL SERVICE

Notice of Availability: Programmatic Environmental Assessment for Mail Processing Network Rationalization Initiative (Formerly Known as the “Network Optimization” Initiative), Nationwide

AGENCY: Postal Service.

ACTION: Notice of availability of a Programmatic Environmental Assessment.

SUMMARY: To comply with the requirements of the National Environmental Policy Act (NEPA), the Postal Service has prepared and is making available a Programmatic Environmental Assessment (PEA) for the Mail Processing Network Rationalization Initiative (the “Proposed Action”), which is national in scope. This PEA evaluated the environmental impacts of the Proposed Action versus taking No Action. Based on the results of the PEA, the Postal Service has issued a Finding of No Significant Impact (FONSI) indicating that the Proposed Action will not have a significant impact on the environment.

DATES: The PEA and FONSI are available as of February 6, 2012.

ADDRESSES: Interested parties may direct questions or requests for additional information, including requests for copies of the PEA and FONSI documents, to: Mr. Thomas G. Day, Chief Sustainability Officer, U.S. Postal Service, 475 L'Enfant Plaza SW., Room 2737, Washington, DC 20260; (202) 268-7488.

SUPPLEMENTARY INFORMATION: The Postal Service is undertaking a Mail Processing Network Rationalization Initiative to create a more streamlined processing and distribution network using fewer facilities to handle an existing and projected decline in mail volumes. The proposal under consideration includes possible closure or consolidation of mail processing for approximately 250 processing facilities, reducing mail processing equipment by as much as 50 percent, dramatically decreasing the nationwide transportation network, adjusting the mail processing workforce size by as many as 35,000 positions, and revising service standards for mail services, including the elimination of the expectation of overnight service for significant portions of First-Class Mail and Periodicals.

Pursuant to the requirements of the National Environmental Policy Act (NEPA) of 1969, the Postal Service's implementing procedures at 39 CFR part 775, and the President's Council on Environmental Quality Regulations (40 CFR parts 1500-1508), the Postal Service has prepared a Programmatic Environmental Assessment (PEA) to evaluate the environmental impacts of the Proposed Action versus the No Action Alternative. Based on the results of the PEA, the Postal Service has issued a Finding of No Significant Impact (FONSI) indicating that the Proposed Action will not have a significant impact on the environment.

The No Action Alternative was analyzed as an alternative to the Proposed Action. Based upon the No Action Alternative, the Postal Service would not implement the Mail Processing Network Rationalization Initiative. Postal Service mail processing operations would continue essentially as is, at current capacity. No consolidation or closure of mail processing facilities, modification of current service standards for First-Class Mail and Periodicals, scaling back of the nationwide transportation network, or workforce adjustments would occur. Under the No Action Alternative the Postal Service would maintain current operating methods and protocols and would continue to operate at a budget deficit due to insufficient income to maintain current operating expenses.

Stanley F. Mires,
Attorney, Legal Policy & Legislative Advice.

[FR Doc. 2012-3082 Filed 2-9-12; 8:45 am]

BILLING CODE 7710-12-P